DEPARTMENT OF HEALTH AND HUMAN SERVICES

Guidance to Federal Financial Assistance Recipients Regarding Title VI Prohibition Against National Origin Discrimination Affecting Limited English Proficient Persons; Extension of Comment Period

AGENCY: Health and Human Services, HHS.

ACTION: Notice.

SUMMARY: The Department of Health and Human Services (HHS) is extending the period for comments on revised Guidance to Federal Financial Assistance Recipients Regarding Title VI Prohibition Against National Origin Discrimination Affecting Limited English Proficient Persons through January 6, 2004. This revised guidance was issued pursuant to Executive Order 13166.

DATES: The deadline for comments is extended to January 6, 2004.

ADDRESSES: Comments should be addressed to Deeana Jang with “Attention: LEP Comments,” and should be sent to 200 Independence Avenue, SW., Room 506F, Washington, DC 20201. Comments may also be submitted by e-mail at LEP.comments@hhs.gov.

FOR FURTHER INFORMATION CONTACT: Deeana Jang, 202-619-1795.

SUPPLEMENTARY INFORMATION: In the notice document 03-20179 beginning on page 47311 in the issue of Friday, August 8, 2003, HHS announced an extended 120 day comment period, “to encourage comment from the public and from recipients regarding experience in applying the revised guidance.” However, that notice incorrectly identified January 6, 2004, as the end of the comment period. This was corrected in notice document C3-20179 on page 49843 in the issue of Tuesday, August 19, 2003, which identified the correct date as December 8, 2003. In comments received by the Department by December 8, concerns were raised that confusion about the close of the 120 day comment period may inadvertantly foreclose consideration of submissions made by commenters relying on the January 6, 2004 date. To avoid any such confusion, the Department will hold open the comment period through January 6, 2004, for comments received by the Department through that date.

Dated: December 9, 2003.
Richard M. Campanelli,
Director, Office for Civil Rights.

[FR Doc. 03-30967 Filed 12-15-03; 8:45 am]

BILLING CODE 4153-01-P